DEPARTMENT OF THE INTERIOR

Bureau of Indian Affairs

Proclaiming Certain Lands as an Addition to and Becoming a Part of the Laguna Reservation for the Pueblo of Laguna, NM

AGENCY: Bureau of Indian Affairs, Interior.

ACTION: Notice of reservation proclamation.

SUMMARY: This notice informs the public that the Assistant Secretary—Indian Affairs proclaimed approximately 8,353.0683 acres, more or less, as an addition to and becoming a part of the Pueblo of Laguna Indian Reservation for the Pueblo of Laguna, New Mexico.

FOR FURTHER INFORMATION CONTACT: Ben Burshia, Bureau of Indian Affairs, Division of Real Estate Services, MS-4639-MIB, 1849 C Street NW., Washington, DC 20240, telephone (202) 208-7737.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 467), for the land described below. The land was proclaimed to be the Pueblo of Laguna Indian Reservation for the exclusive use of Indians on that reservation who are entitled to reside at the reservation by enrollment or tribal membership.

Pueblo of Laguna Indian Reservation

Cibola County, New Mexico

Those certain parcels of land known as Parcels I and II, more particularly described below. Said parcels contain a combined total area of 8,353.0683 acres, more or less.

Parcel I

(Note: The following corrective legal description corrects and supersedes the legal description shown on Sheet 1 of 9 of the Boundary Survey Plat entitled “BOUNDARY SURVEY PLAT, CEBOLLETA RANCH, LTD., CO., WITHIN THE CEBOLLETA GRANT, CIBOLA COUNTY, NEW MEXICO, DECEMBER 1999”, certified on December 2, 1999, by Garry P. Hugg, New Mexico Professional Surveyor No. 5823, and filed in the office of the County Clerk of Cibola County, New Mexico on April 11, 2008, in Book 018, Pages 02063-02071, as Document No. 200800960.) That certain parcel of land situated within the Cebolleta Grant in projected Sections 2, 3, 10, 11, 14, 15 and 23, Township 11 North, Range 6 West and projected Sections 13, 14, 15, 16, 21, 22, 23, 24, 25, 26, 27, 34 and 35, Township 12 North, Range 6 West, New Mexico Principal Meridian, Cibola County, New Mexico, and being that certain parcel of land described in Warranty Deed from John C. Dilts, Jr., Trustee of the John C. Dilts, Jr. Inter Vivos Trust and Two Rivers Ranch to Cebolleta Ranch LTD. Co., filed in the office of the County Clerk of Cibola County, New Mexico, on July 16, 1999, in Book 8, page 4223, more particularly described by survey performed by Garry P. Hugg, New Mexico Professional Surveyor Number 5823, using the New Mexico State Plane Coordinate System, West Zone (NAD83), grid bearings and ground distances as follows:

BEGINNING at the Southeast corner of the parcel herein described (a 5/8″ rebar and aluminum cap stamped LS 5823), whence the seven and one half (7-1/2) mile marker on the South Boundary of said Cebolleta Grant (a correctly marked BLM Brass Cap Monument found in place) bears S 00°13′40″ E, 750.00 feet distant; Thence, N 45°58′19″ W, 2519.16 feet to a point (a 5/8″ rebar and aluminum cap stamped LS 5823 set); Thence, N 00°52′55″ W, 3356.28 feet to a point (a 5/8″ rebar and aluminum cap stamped LS 5823 set); Thence, N 60°54′00″ W, 2113.33 feet to a point (a 5/8″ rebar and aluminum cap stamped LS 5823 set); Thence, N 00°43′26″ E, 2145.65 feet to a point (a 3-1/2″ brass cap stamped Elder Company Property Corner mounted on a 1″ iron pipe found in place); Thence, S 75°19′09″ W, 374.11 feet to a point (a 3-1/2″ brass cap stamped Elder Company Property Corner mounted on a 1″ iron pipe found in place); Thence, N 48°05′38″ W, 1097.13 feet to a point (a 3-1/2″ brass cap stamped Elder Company Property Corner mounted on a 1″ iron pipe found in place); Thence, N 31°32′48″ E, 504.07 feet to a point (a 3-1/2″ brass cap stamped Elder Company Property Corner mounted on a 1″ iron pipe found in place); Thence, N 17°35′10″ W, 1306.39 feet to a point (a 5/8″ rebar and aluminum cap stamped LS 5823 set); Thence, N 90°00′00″ W, 3519.20 feet to the Southwest corner of the parcel herein described (a 5/8″ rebar and aluminum cap stamped LS 5823 set); Thence, N 00°11′55″ W, 12252.21 feet to a point (a 2″ iron pipe found in place and tagged with a brass disc stamped LS 5823); Thence, N 00°10′57″ W, 2636.39 feet to (a 1″ iron pipe found in place and tagged with a brass disc stamped LS 5823); Thence, N 00°14′48″ W, 2638.21 feet to a point (a 2″ iron pipe found in place and tagged with a brass disc stamped LS 5823); Thence, N 01°15′25″ W, 4954.11 feet to a point (a 1″ iron pipe found in place and tagged with a brass disc stamped LS 5823); Thence, S 89°37′41″ W, 5281.60 feet to a point (a 1″ iron pipe found in place and tagged with a brass disc stamped LS 5823), having the following ties (as shown on the Boundary Survey Plat certified on July 7, 2010, by Russ P. Hugg, New Mexico Professional Surveyor No. 9750, and filed in the office of the County Clerk of Cibola County, New Mexico, on July 9, 2010, in Book 020, Page 00535, as Document No. 201001558): Whence (1) the U.S. Geological Survey Control Monument “BALTA” bears S 46°25′48″ E, 4491.90 feet distant and (2) the seven (7) mile marker on the south boundary of the Cebolleta Grant (a correctly marked BLM Brass Cap Monument found in place) bears S 18°44′36″ E, 35,664.57 feet distant; Thence, N 00°19′33″ W, 4484.14 feet to the Northwest corner of the parcel herein described (a 1″ iron pipe found in place and tagged with an aluminum washer stamped LS 11808); Thence, N 89°48′22″ E, 5281.61 feet to a point (a 60d Spike and cap stamped “L.S. 9750” set in the south face of a 24″ ponderosa pine tree, as shown on the above-described Boundary Survey Plat certified on July 7, 2010, by Russ P. Hugg, New Mexico Professional Surveyor No. 9750); Thence, N 89°48′22″ E, 8057.93 feet to a point (a 5/8″ rebar and aluminum cap stamped LS 1593 found in place); Thence, N 89°40′16″ E, 1319.80 feet to a point (a 5/8″ rebar found in place and tagged with a brass disc stamped LS 5823); Thence, N 89°41′08″ E, 3283.15 feet to the Northeast corner of the parcel herein described (a 5/8″ rebar and aluminum cap stamped LS 5823 set); Thence, S 18°19′27″ E, 1007.36 feet to a point (a 5/8″ rebar and aluminum cap stamped LS 5823 set); Thence, S 16°16′13″ E, 222.14 feet to a point (a 5/8″ rebar and aluminum cap stamped LS 5823 set); Thence, S 16°46′35″ E, 859.75 feet to a point (a 5/8″ rebar and aluminum cap stamped LS 5823 set); Thence, S 26°30′43″ E, 739.83 feet to a point (a 5/8″ rebar and aluminum cap stamped LS 5823 set); Thence, S 12°33′02″ E, 175.17 feet to a point (a 5/8″ rebar and aluminum cap stamped LS 5823 set); Thence, S 05°33′43″ W, 564.83 feet to a point (a 5/8″ rebar and aluminum cap stamped LS 5823 set); Thence, S 25°36′54″ W, 403.89 feet to a point (a 5/8″ rebar and aluminum cap stamped LS 5823 set); Thence, S 42°33′07″ E, 1369.34 feet to a point (a 5/8″ rebar and aluminum cap stamped LS 5823 set in a found stone cairn); Thence, S 20°11′08″ E, 1775.40 feet to a point (a 5/8″ rebar and aluminum cap stamped LS 5823 set in a found stone cairn); Thence, S 07°00′59″ W, 1340.02 feet to a point (a 5/8″ rebar and aluminum cap stamped LS 5823 set in a found stone cairn); Thence, S 25°43′58″ W, 1330.94 feet to a point (a 5/8″ rebar and aluminum cap stamped LS 5823 set in a found stone cairn); Thence, S 30°46′49″ E, 2130.83 feet to a point (a 5/8″ rebar and aluminum cap stamped LS 9750 set in a found stone cairn); Thence, S 02°49′01″ E, 1973.71 feet to a point (a 5/8″ rebar and aluminum cap stamped LS 5823 set in a found stone cairn); Thence, S 27°21′05″ W, 921.95 feet to a point (a 5/8″ rebar and aluminum cap stamped LS 5823 set in a found stone cairn); Thence, S 89°45′46″ W, 6375.32 feet to a point (a 5/8″ rebar and aluminum cap stamped LS 5823 set); Thence, S 00°13′31″ E, 1800.75 feet to a point (a 5/8″ rebar and aluminum cap stamped “Koogle & Pouls Engineering WL 5” found in place); Thence, S 00°13′31″ E, 10400.27 feet to a point (a 5/8″ rebar and aluminum cap stamped “Koogle & Pouls Engineering WL 3” found in place); Thence, S 00°13′40″ E, 11788.83 feet to the Southeast corner and point of beginning of the parcel herein described.

Said Parcel I contains an area of 8,270.5090 acres, more or less.

Parcel II

(Note: The following corrective legal description corrects and supersedes the legal description shown on Sheet 1 of 4 of the A.L.T.A./A.C.S.M. Land Title Survey Plat entitled “A.L.T.A./A.C.S.M. LAND TITLE SURVEY, LANDS OF SILVER DOLLAR RANCH, L.L.C., SITUATED WITHIN THE CEBOLLETTA GRANT IN PROJECTED SECTIONS 10 AND 15, TOWNSHIP 11 NORTH, RANGE 6 WEST, NEW MEXICO PRINCIPAL MERIDIAN, CIBOLA COUNTY, NEW MEXICO, APRIL 2008”, certified on April 7, 2008, by Russ P. Hugg, New Mexico Professional Surveyor No. 9750, and filed in the office of the County Clerk of Cibola County, New Mexico, on April 11, 2008, in Book 018, Pages 02059-02062, as Document No. 200800959.)

That certain parcel of land situated within the Cebolleta Grant in projected Sections 10 and 15, Township 11 North, Range 6 West, New Mexico Principal Meridian, Cibola County, New Mexico, and being that certain parcel of land described in Quit Claim Deed from Cebolleta Ranch Ltd. Co. to Silver Dollar Ranch, LLC, filed in the office of the County Clerk of Cibola County, New Mexico, on August 2, 2005, in Book 0014, Page 9122, more particularly described by survey performed by Russ P. Hugg, New Mexico Professional Surveyor Number 9750, using the New Mexico State Plane Coordinate System, West Zone (NAD83), grid bearings and ground distances as follows:

BEGINNING at the Southwest corner of the parcel herein described (a 3½″ brass cap stamped Elder Company Property Corner mounted on a 1″ iron pipe found in place), whence (1) the six (6) mile marker on the South Boundary of said Cebolleta Grant (a correctly marked BLM Brass Cap Monument found in place) bears S 15°19′20″ W, 5589.46 feet distant, (2) the seven (7) mile marker on said south boundary of the Cebolleta Grant (a correctly marked BLM Brass Cap Monument found in place) bears S 34°32′35″ E, 6567.42 feet distant and (3) Angle Point No. 5 on the North line of Tract 37 (a correctly marked BLM Brass Cap Monument found in place) bears N 33°09′41″ W, 2795.69 feet distant; Thence, N 17°50′59″ E, 4457.95 feet to the Northwest corner of the parcel herein described (a 3½″ brass cap stamped Elder Company Property Corner mounted on a 1″ iron pipe found in place), a point on the Westerly boundary of the Cebolleta Ranch being that certain parcel of land described in Warranty Deed from John C. Dilts, Jr., Trustee of the John C. Dilts, Jr., Inter Vivos Trust and Two Rivers Ranch to Cebolleta Ranch LTD., Co., filed in the office of the County Clerk of Cibola County, New Mexico, on July 16, 1999, in Book 8, page 4223; Thence, S 48°05′38″ E, 1097.13 feet along said Westerly boundary of the Cebolleta Ranch to the Northeast corner of the parcel herein described (a 3½″ brass cap stamped Elder Company Property Corner mounted on a 1″ iron pipe found in place); Thence, S 22°45′37″ W, 4163.53 feet to the Southeast corner of the parcel herein described (a 3½″ brass cap stamped Elder Company Property Corner mounted on a 1″ iron pipe found in place); Thence, N 60°07′19″ W, 659.92 feet to the Southwest corner and point of beginning of the parcel herein described.

Said Parcel II contains an area of 82.5593 acres, more or less.

The above-described Parcels I and II contain a combined total area of 8,353.0683 acres, more or less, together with all rights and easements appurtenant thereto, and all water rights, whether appurtenant or not, for their associated purposes of use whether for irrigation, ranching, stock, game, wildlife, domestic, commercial, recreation or other purposes, and from all sources whether surface water, groundwater, or springs, whether permitted or unpermitted, and including all claims for water rights, subject to restrictions, reservations, and easements of record insofar as the same are in force and applicable.

This proclamation does not affect title to the land described above, nor does it affect any valid existing easements for public roads and highways, public utilities and for railroads and pipelines and any other rights-of-way or reservations of record.

Dated: July 20, 2012.
Donald E. Laverdure,
Acting Assistant Secretary—Indian Affairs.

[FR Doc. 2012-20145 Filed 8-15-12; 8:45 am]

BILLING CODE 4310-W7-P